DEPARTMENT OF THE INTERIOR

National Park Service

[2253-665]

Notice of Intent To Repatriate Cultural Items: California State University, Sacramento, Sacramento, CA

AGENCY: National Park Service, Interior.

ACTION: Notice.

Notice is here given in accordance with the Native American Graves Protection and Repatriation Act (NAGPRA), 25 U.S.C. 3005, of intent to repatriate cultural items in the possession of California State University, Sacramento, Sacramento, CA, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

In a companion Notice of Inventory Completion, the Native American human remains and associated funerary objects removed from Site CA-SAC-16 are described.

At an unknown time in the 1930s, cultural items were removed from site CA-SAC-16 on private property, in Sacramento County, CA. In 1951, the Zallio Collection, which included these objects, was donated to Sacramento State College (now California State University, Sacramento). The 14 unassociated funerary objects currently in the collection are 13 projectile points and 1 stone tool. Five additional unassociated funerary objects (one bone awl and four projectile points) are missing.

In 1953, cultural items were removed from Site CA-SAC-16 on private property, in Sacramento County, CA, during an excavation project by the university. The unassociated funerary object is one bead. Three additional unassociated funerary objects (one baked clay artifact and two beads) are missing.

From 1961 to 1971, cultural items were removed during an excavation project at Site CA-SAC-16 on private property, in Sacramento County, CA. The American River College conducted the salvage excavation, and the collection was later transferred to California State University, Sacramento. The two unassociated funerary objects are one bead and one bag of debitage. Twenty-three additional unassociated funerary objects (2 bags of baked clay, 1 bead, 2 bags of carbonized material, 13 bags of faunal material, 1 piece of jasper, 1 quartz crystal, 2 unidentified rocks, and 1 stone tool) are missing.

In 1971, cultural items were removed during a salvage excavation project at Site CA-SAC-16 on private property, in Sacramento County, CA, by the university. The 510 unassociated funerary objects are 11 bags of baked clay, 420 beads, 10 bags of carbonized material, 11 bags of debitage, 2 discoidals, 23 bags of faunal material, 3 bags of fire cracked rocks, 2 bags of grave fill, 4 modified faunal bones, 4 ornaments, 15 projectile points, and 5 stone tools. Fifty-four additional unassociated funerary objects (1 bone awl, 30 beads, 1 bone tube, 16 bags of faunal material, 1 bag of fire fractured rock, 4 projectile points, and 1 stone tool) are missing.

The artifact types and burial practices observed at Site CA-SAC-16 indicate that it was first occupied during the Middle Horizon, and was inhabited into the Historic Period. The presence of rough disk Olivella beads and glass trade beads associated with the Hudson Bay fur trappers suggests that some burials may date to the 1830s, when an epidemic attributed to malaria spread among Native populations along the Sacramento River. The lack of archeological and historical evidence for occupation of the site after the epidemic provides circumstantial support that the site was abandoned at this time. The surviving occupants of the site may have joined with neighboring groups to the south (in the vicinity of Sacramento), to the north (Verona), and to the east (in the foothills).

Archeological evidence indicates that the lower Sacramento Valley and Delta regions were continuously occupied since at least the Early Horizon (5550-550 B.C.). Cultural changes indicated by artifact typologies and burial patterns, historical linguistic evidence, and biological evidence reveal that the populations in the region were not static, with both in situ cultural changes and migrations of outside populations into the area. Linguistic evidence suggests that ancestral-Penutian speaking groups related to modern day Miwok, Nisenan, and Patwin groups occupied the region during the Middle (550 B.C.-A.D. 1100) and Late (A.D. 1100—Historic) Horizons, with some admixing between these groups and Hokan-speaking groups that occupied the region at an earlier date. The genetic data suggests that the Penutians may have arrived later than suggested by the linguistic evidence.

Geographical data from ethnohistoric and ethnographic sources indicate that the site was most likely occupied by Nisenan-speaking groups at the beginning of the Historic Period, while Patwin-speakers occupied the valley west of the Sacramento River and Miwok-speakers resided south of the American River. Ethnographic data and expert testimony from tribal representatives support the high level of interaction between groups in the lower Sacramento Valley and Delta regions that crosscut linguistic boundaries. Historic population movements resulted in an increased level of shifting among populations, especially among the Miwok and Nisenan, who were impacted by disease and Euro-American activities relating to Sutter's Fort and later gold-rush activities.

In summary, officials of California State University, Sacramento, together with the University's College of Social Sciences and Interdisciplinary Studies Committee on Native American Graves Protection and Repatriation Act Compliance (SSIS NAGPRA Committee), reasonably believe that the ethnographic, historical, and geographical evidence indicates that the historic burials and cultural items recovered from Site CA-SAC-16 are most closely affiliated with contemporary descendants of the Nisenan, and have more distant ties to neighboring groups, such as the Plains Miwok. Furthermore, the earlier cultural items from the Middle and Late Horizons share cultural relations with the Nisenan and Plains Miwok based on archeological, biological, and historical linguistic evidence.

Officials of California State University, Sacramento, have determined, pursuant to 25 U.S.C. 3001(3)(B), that the 527 cultural items described above are reasonably believed to have been placed with or near individual human remains at the time of death or later as part of the death rite or ceremony and are believed, by a preponderance of the evidence, to have been removed from a specific burial site of Native American individuals. Officials of California State University, Sacramento, have determined, pursuant to 25 U.S.C. 3001(2), that there is a relationship of shared group identity that can be reasonably traced between the unassociated funerary objects and the Buena Vista Rancheria of Me-Wuk Indians of California; Ione Band of Miwok Indians of California; Shingle Springs Band of Miwok Indians, Shingle Springs Rancheria (Verona Tract), California; United Auburn Indian Community of the Auburn Rancheria of California; and Wilton Rancheria, California, as well as the non-Federally recognized Indian groups of the El Dorado Miwok Tribe and Nashville-El Dorado Miwok.

Representatives of any other Indian tribe that believes itself to be culturally affiliated with the unassociated funerary objects should contact Charles Gossett, Dean of the College of Social Sciences and Interdisciplinary Studies, CSUS, 6000 J St., Sacramento, CA 95819-6109, telephone: (916) 278-6504, before April 14, 2011. Repatriation of the unassociated funerary objects to the Buena Vista Rancheria of Me-Wuk Indians of California; Ione Band of Miwok Indians of California; Shingle Springs Band of Miwok Indians, Shingle Springs Rancheria (Verona Tract), California; United Auburn Indian Community of the Auburn Rancheria of California; and Wilton Rancheria, California, may proceed after that date if no additional claimants come forward.

California State University, Sacramento, is responsible for notifying the Buena Vista Rancheria of Me-Wuk Indians of California; Cortina Indian Rancheria of Wintun Indians of California; Ione Band of Miwok Indians of California; Shingle Springs Band of Miwok Indians, Shingle Springs Rancheria (Verona Tract), California; United Auburn Indian Community of the Auburn Rancheria of California; Wilton Rancheria, California; and Yocha Dehe Wintun Nation, California, as well as the non-Federally recognized Indian groups of the El Dorado Miwok Tribe and Nashville-El Dorado Miwok that this notice has been published.

Dated: March 9, 2011.
Sherry Hutt,
Manager, National NAGPRA Program.

[FR Doc. 2011-5855 Filed 3-14-11; 8:45 am]

BILLING CODE 4312-50-P